DEPARTMENT OF COMMERCE

International Trade Administration

Notice of Scope Rulings

AGENCY: Import Administration, International Trade Administration, Department of Commerce.

EFFECTIVE DATE: May 10, 2005.

SUMMARY: The Department of Commerce (the Department) hereby publishes a list of scope rulings completed between April 1, 2003, and December 31, 2004. In conjunction with this list, the Department is also publishing a list of requests for scope rulings and anticircumvention determinations pending as of December 31, 2004. We intend to publish future lists after the close of the next calendar quarter.

FOR FURTHER INFORMATION CONTACT: Bridgette Roy or Irina Itkin, Import Administration, International Trade Administration, U.S. Department of Commerce, 14th Street and Constitution Avenue NW., Washington, DC 20230; telephone (202) 482-0160 or (202) 482-0656.

SUPPLEMENTARY INFORMATION:

Background

The Department's regulations provide that the Secretary will publish in the Federal Register a list of scope rulings. See 19 CFR 351.225(o). Our most recent “Notice of Scope Rulings” was published on June 19, 2003. See 68 FR 36770. The instant notice covers all scope rulings and anticircumvention determinations completed by Import Administration between April 1, 2003, and December 31, 2004, inclusive. It also lists any scope or anticircumvention inquiries pending as of December 31, 2004. As described below, subsequent lists will follow after the close of each calendar quarter.

Scope Rulings Completed Between April 1, 2003, and December 31, 2004

India

A-533-824, C-533-825: Polyethylene Terephthalate Film Sheet and Strip from India

Requestor: International Packaging Films, Inc.; tracing and drafting film is outside the scope of the order; August 25, 2003.

A-533-502: Certain Welded Carbon Steel Standard Pipes and Tubes from India

Requestor: Aruvil International, Inc.; welded carbon steel pipes that are galvanized and have a polyester powder coating are within the scope of the antidumping duty order; March 4, 2004.

Mexico

A-201-805: Circular Welded Non-Alloy Steel Pipe from Mexico

Requestor: Galvak S.A. de CV; mechanical tubing is outside of the order, some Galvak tubing marked as ASTM A-787 is not mechanical tubing; scope ruling November 19, 1998; re-determination affirmed by NAFTA panel June 7, 2004.

A-201-831: Prestressed Concrete Steel Wire Strand from Mexico

Requestors: American Spring Wire Corp., Insteel Wire Products Company, Sumiden Wire Products Corp., and Cablesa , S.A. de C.V.; 0.05 oz./sq. ft. zinc coated PC strand is within the scope of the order; June 16, 2004.

People's Republic of China

A-570-504: Petroleum Wax Candles from the People's Republic of China

Requestor: Garden Ridge; nine candles six with a cheetah print (Styles 194735-A, 194736-A, 194768-A, 194735-C) and three with a zebra print (194735-D, 194736-D, 194768-D) are within the scope of the order; April 22, 2003.

A-570-504: Petroleum Wax Candles from the People's Republic of China

Requestor: Fleming International, Ltd.; three of Fleming's candles (B3922, B3966, and B3988) are not included in the scope of the order based on their vegetable wax content. However, one of Fleming's candles (EP878) is within the scope of the order because it is composed of more than 98 percent paraffin wax; May 14, 2003.

A-570-827: Certain Cased Pencils from the People's Republic of China

Requestor: Barthco Trade Consultants; twist crayons are outside the scope of the order; May 22, 2003.

A-570-504: Petroleum Wax Candles from the People's Republic of China

Requestor: For Your Ease Only; two gel candles are within the scope of the order; June 11, 2003.

A-570-504: Petroleum Wax Candles from the People's Republic of China

Requestor: San Francisco Candle Company; three types of candles it imports (Style Numbers 71526, 71426, 17734, 17736, 213619, and 213449) are within the scope of the order; June 12, 2003.

A-570-803: Heavy Forged Hand Tools, Finished or Unfinished, With or Without Handles, from the People's Republic of China

Requestor: Olympia Industrial Inc.; cast picks, with or without a handle, are within the scope of the order; September 22, 2003.

A-570-502: Iron Construction Castings from the People's Republic of China

Requestor: Westview Sales, Ltd.; imports of manhole frames and solid covers from the People's Republic of China are within the scope of the order; October 17, 2003.

A-570-502: Iron Construction Castings from the People's Republic of China

Requestor: Frank J. Martin Company; imports of cast iron full-flanged rings and certain cast iron gas lids from the People's Republic of China are outside the scope of the order; October 17, 2003.

A-570-506: Porcelain-on-Steel Cooking Ware from the People's Republic of China

Requestor: Target Corporation; certain enamel-clad beverage holders and dispensers are outside the scope of the order; October 29, 2003.

A-570-504: Petroleum Wax Candles from the People's Republic of China

Requestor: Avon Products, Inc.; five candles (PP239209, PP239091, PP238336-PUMPKIN, PP238336-GHOST, PP239217) are not included within the scope of the order based on the fact that these candles contain less than 50 percent paraffin wax; November 17, 2003.

A-570-504: Petroleum Wax Candles from the People's Republic of China

Requestor: Avon Products, Inc.; one candle (PP231051) is not included within the scope of the order based on the fact that this candle contains less than 50 percent paraffin wax; November 17, 2003.

A-570-504: Petroleum Wax Candles from the People's Republic of China

Requestor: Meijer, Inc.; five candles (“floating eyeball,” “eyeball,” “skull,” “BAT NOG,” and “jack o'lantern” candles) are included within the scope of the order and one candle set (“Halloween floating” candles) is not included within the scope of the order, because it is associated with a recognized holiday; December 22, 2003. (A diversified scope proceeding was opened with respect to two other candle sets (“MJ10300 Thin Candles” and “MJ 70140 Twinkle Thin Candle”)).

A-570-882: Refined Brown Aluminum Oxide (Otherwise known as Refined Brown Artificial Corundum or Brown Fused Alumina) from the People's Republic of China

Requestors: Cometals Division of Commercial Metals Company,Wester Mineralien SA (Pty) Ltd., and Polmineral Sp.zo.o.; crude brown aluminum oxide, in which particles with a diameter greater than 3/8 inch constitute at least 50 percent of the total weight of the entire batch, that is purchased from the People's Republic of China and then refined in a country other than the People's Republic of China is outside the scope of the order; February 3, 2004.

A-570-504: Petroleum Wax Candles from the People's Republic of China

Requestor: Hallmark Cards, Inc.; four candles (“dark green leaf with red berries,” “red maple leaf,” “blue 6-point star,” and “white dome”) are included within the scope; May 17, 2004.

A-570-504: Petroleum Wax Candles from the People's Republic of China

Requestor: Spectrum Brands; five candles (“Cutter Citronella” candle, “Cutter Holiday Basket” candle, “Cutter Triple Wick Citronella” candle, “Cutter Outdoorsman Citronella” candle, and “Cutter Weather-Proof Citronella” candle) contain citronella oil and therefore are not included within the scope; May 20, 2004.

A-570-831: Fresh Garlic from the People's Republic of China

Requestor: Coppersmith Inc. and Amexim Inc.; certain garlic cloves in brine are within the scope of the order; June 25, 2004

A-570-868: Folding Metal Tables and Chairs from the People's Republic of China

Requestor: Lifetime Hong Kong Ltd. and Lifetime Plastic Products Ltd.; table styles 4600 and 4606 are within the scope of the order; September 7, 2004.

A-570-827: Cased Pencils from the People's Republic of China

Requestor: Target Corporation; “Hello Kitty Fashion Totes” are outside the scope of the order; September 29, 2004.

A-570-827: Cased Pencils from the People's Republic of China

Requestor: Target Corporation; the “Hello Kitty Memory Maker” is outside the scope of the order; September 29, 2004.

A-570-827: Cased Pencils from the People's Republic of China

Requestor: Target Corporation; the “Crayola the Wave” is outside the scope of the order; September 29, 2004.

A-570-875: Non-Malleable Cast Iron Pipe Fittings from the People's Republic of China

Requestor: Thomas and Betts Corporation; certain electrical conduit fittings are within the scope of the order; November 5, 2004.

A-570-504: Petroleum Wax Candles from the People's Republic of China

Requestor: Old Hickory Candle company; five “angel” candles are included within the scope of the order; November 18, 2004.

A-570-504: Petroleum Wax Candles from the People's Republic of China

Requestor: Neatzit Israel International, Ltd.; a box of 44 “Chanukah candles” is included within the scope of the order; November 18, 2004.

A-570-504: Petroleum Wax Candles from the People's Republic of China

Requestor: Paperproducts Design, Inc.; “Wine Cork” and “Champagne Cork” candles are outside the scope of the order; November 22, 2004.

A-570-504: Petroleum Wax Candles from the People's Republic of China

Requestor: Globalshop, Inc.; “Snowman” candles are outside the scope of the order; November 24, 2004.

A-570-803: Heavy Forged Hand Tools, Finished or Unfinished, With or Without Handles, from the People's Republic of China

Requestor: Olympia Industrial Inc.; the MUTT , which is a forged scraper, with or without a handle, is within the scope of the antidumping duty order; December 9, 2004.

A-570-504: Petroleum Wax Candles from the People's Republic of China

Requestor: Atico International USA, Inc.; “Wax Icon,” “Santa Ornament,” “Candy Corn,” and “Christmas Pillar” candles are all within the scope of the order; December 16, 2004.

A-570-848: Freshwater Crawfish Tailmeat from the People's Republic of China

Requestor: Coastal Foods, LLC; crawfish etouffee is outside the scope of the order; December 17, 2004.

A-570-504: Petroleum Wax Candles from the People's Republic of China

Requestor: Pacific Enterprise, LLC; three “Chubby Palm Candles” (item numbers 02717, 02724, and 02700) are outside the scope of the order; December 17, 2004.

A-570-504: Petroleum Wax Candles from the People's Republic of China

Requestor: Direct Scent, Inc.; two candles (item numbers 01G020 and 01G0073) are outside the scope of the order while one candle (item number 01G060) is within the scope of the order; December 17, 2004.

A-570-504: Petroleum Wax Candles from the People's Republic of China

Requestor: Wal-Mart Stores, Inc.; two candles sets (SC02-319 and SC02-320) and two candles (Styles SC02-325 and SC02-328) are included within the scope of the order; December 17, 2004.

A-570-504: Petroleum Wax Candles from the People's Republic of China

Requestor: Avon Products, Inc.; one candle (PPN 250246) is included within the scope of the order; December 21, 2004.

A-570-504: Petroleum Wax Candles from the People's Republic of China

Requestor: Dollar Tree Stores, Inc.; three candles (SKU 162394) are included within the scope of the order; December 22, 2004.

Republic of Korea

C-580-851: Dynamic Random Access Memory Semiconductors from the Republic of Korea

Requestor: ATI Technologies, Inc. (“ATI”); Mobility Radeon 9600 and Mobility Radeon 9700 visual processing units manufactured by ATI are outside the scope of the countervailing duty order; January 14, 2004.

C-580-851: Dynamic Random Access Memory Semiconductors from the Republic of Korea

Requestor: Self-initiated by the Department of Commerce; the Department concluded that products classified under subheadings 8517.30.5000, 8517.50.1000, 8517.50.5000, 8517.50.9000, 8517.90.3400, 8517.90.3600, 8517.90.3800, and 8517.90.4400 of the Harmonized Tariff Schedule of the United States are within the scope of the countervailing duty order; May 3, 2004.

Anti-circumvention Determinations Completed Between April 1, 2003, and December 31, 2004:

Italy

A-475-818 & C-475-819: Certain Pasta from Italy

Requestor: Self-initiated by the Department of Commerce; certain pasta produced in Italy by Pastificio Fratelli Pagani S.p.A. (Pagani) and exported to the United States in packages of greater than five pounds, subsequently repackaged in the United States into packages of five pounds or less, constitutes circumvention of the antidumping and countervailing duty orders; September 19, 2003.

Japan

A-588-824: Corrosion-Resistant Carbon Steel (“CRS”) Flat Products from Japan

Requestor: USS-POSCO Industries; imports of boron-added CRS products, falling within the physical dimensions outlined in the scope of the order, are not circumventing the order; June 5, 2003.

Scope Inquiries Terminated Between April 1, 2003, and December 31, 2004:

The People's Republic of China

A-570-827: Certain Cased Pencils from the People's Republic of China

Requestor: Designs by Skaffles Inc.; whether a stationary set is within the scope of the order; request withdrawn June 2, 2003.

A-570-504: Petroleum Wax Candles from the People's Republic of China

Requestor: Meijer, Inc. (“Meijer”); Diversified scope proceedings on Meijer's “MJ10300 Thin Candles” and “MJ 70140 Twinkle Thin Candle” were opened on May 24, 2004; terminated July 1, 2004.

A-570-803: Heavy Forged Hand Tools, Finished or Unfinished, With or Without Handles, from the People's Republic of China

Requestor: Olympia Industrial Inc.; the requestor failed to request a scope ruling on a particular product; terminated July 29, 2004.

Scope Inquiries Pending as of December 31, 2004:

Brazil

A-351-832; C-351-833: Carbon and Certain Alloy Steel Wire Rod from Brazil

Requestors: Companhia Siderugica Belgo Mineira Participacao Industria e Comercio S.A. and B.M.P. Siderugica S.A.; whether grade 1080 tire cord quality wire rod and tire bead quality wire rod (1080 TCBQWR) is within the scope of the order; requested March 29, 2004.

India

A-533-808; A-533-810: Certain Stainless Steel Wire Rod from India

Requestor: Mukand; whether stainless steel bar that is manufactured in the United Arab Emirates from stainless steel wire rod imported from India is within the scope of the orders on stainless steel wire rod or stainless steel bar from India; requested May 14, 2003.

Japan

A-588-833: Certain Tin Mill Products from Japan

Requestor: Metal One America Inc.; whether certain tin mill products produced in Colombia from Japanese substrate are within the scope of the order; requested April 21, 2004.

People's Republic of China

A-570-504: Petroleum Wax Candles from the People's Republic of China

Requestor: New Spectrum; whether floating candles, assorted figurine candles, “ball of gold rope” candle, Christmas ornament candles, various candle sets, scented candles, and citronella "garden torch” candles are within the scope of the order; requested March 29, 2002.

A-570-504: Petroleum Wax Candles from the People's Republic of China

Requestor: Home Interiors & Gifts, Inc.; whether a “rose blossom” candle, “sunflower” floating candles, “Americana heart” floating candles, “baked apple” tea lights, and vanilla tea lights are within the scope of the order; requested June 4, 2002.

A-570-504: Petroleum Wax Candles from the People's Republic of China

Requestor: Sears; whether three “wrapped present” candles with a mirrored tray are within the scope of the order; requested October 15, 2002.

A-570-504: Petroleum Wax Candles from the People's Republic of China

Requestor: J.C. Penney Purchasing Corp.; whether a “wicker lamp shade” candle is within the scope of the order; requested January 22, 2003.

A-570-504: Petroleum Wax Candles from the People's Republic of China

Requestor: Target Corporation; whether snowball candles and sets are within the scope of the order; requested February 5, 2003.

A-570-504: Petroleum Wax Candles from the People's Republic of China

Requestor: Crazy Mountain Imports; whether various candles with Christmas ornaments are within the scope of the order; requested February 19, 2003.

A-570-504: Petroleum Wax Candles from the People's Republic of China

Requestor: Illuminations Stores, Inc.; two candles (item numbers 1050-0593 and 1050-0594) and two candle sets (item numbers 1050-0591 and 1050-0592) are included within the scope of the order; March 7, 2003.

A-570-504: Petroleum Wax Candles from the People's Republic of China

Requestor: Access Business Group; whether various “bowl” and jar candles are within the scope of the order; requested March 25, 2003.

A-570-504: Petroleum Wax Candles from the People's Republic of China

Requestor: Reckitt Benckiser Inc.; whether “air wick glowing candles” in various colors and scents, and containing more than 50 percent palm oil wax, were within the scope of the order; requested April 4, 2003.

A-570-504: Petroleum Wax Candles from the People's Republic of China

Requestor: Maredy Candy Company; whether “heart,” “star,” and “snowflake” candles are within the scope of the order; requested April 22, 2003.

A-570-504: Petroleum Wax Candles from the People's Republic of China

Requestor: Target Corporation; whether “leaf” and “cranberry ball” candles and a set of “stone” candles are within the scope of the order; requested June 12, 2003.

A-570-504: Petroleum Wax Candles from the People's Republic of China

Requestor: Home & Garden Party; whether two “leaf” candles are within the scope of the order; requested September 30, 2003.

A-570-504: Petroleum Wax Candles from the People's Republic of China

Requestor: Rokeach Foods; whether a “Yahrzeit” (or “day of memory”) candle is within the scope of the order; requested April 22, 2004.

A-570-504: Petroleum Wax Candles from the People's Republic of China

Requestor: Pier 1 Imports, Inc.; whether 13 models of candles are outside the scope of the order; requested May 24, 2004.

A-570-504: Petroleum Wax Candles from the People's Republic of China

Requestor: Pei Eichel, Inc.; whether three styles of “Archipelago Bombay Sleeve” candles (PO # 9904234, 9904235, and 9904236) are within the scope of the order; requested May 28, 2004, and June 3, 2004.

A-570-504: Petroleum Wax Candles from the People's Republic of China

Requestor: Specialty Merchandise Corp.; whether the “Xmas Joy” candle is within the scope of the order; requested June 23, 2004.

A-570-504: Petroleum Wax Candles from the People's Republic of China

Requestor: Coppersmith Inc.; whether “Xmas JOY” candles are within the scope of the order; requested July 15, 2004.

A-570-882: Brown Aluminum Oxide from the People's Republic of China

Requestor: Cometals Division of Commercial Metals Company; whether black aluminum oxide is excluded from the scope of the antidumping duty order; requested July 22, 2004.

A-570-881: Certain Malleable Iron Pipe Fittings from the People's Republic of China

Requestor: Nitek Electronics, Inc. and Sango International L.P.; whether meter swivels and meter nuts are within the scope of the order; requested July 28, 2004.

A-570-504: Petroleum Wax Candles from the People's Republic of China

Requestor: Abrim Enterprises, Inc.; whether “Easter Egg/Flower Basket,” “Square-M Angel,” “Garlic-L,” “Easter Egg-E,” “Strobile-M,” “Halloween Skull-A,” “Tulip Bud-L,” “Birthday Cake-S,” “Censer,” and “X-Mas Tree-A,” “Snowman (Wife),” and “Snowman (Husband)” candles are within the scope of the order; requested August 2, 2004.

A-570-504: Petroleum Wax Candles from the People's Republic of China

Requestor: Noteworthy, a division of Papermates, Inc.; whether “Floater Flower Candle” and “Rose Pillar Candle” are within the scope of the order; requested August 13, 2004.

A-570-827: Cased Pencils from the People's Republic of China

Requestor: Target Corporation; whether the RoseArt Clip N' Color is within the scope of the order; requested August 16, 2004.

A-570-881: Certain Malleable Iron Pipe Fittings from the People's Republic of China

Requestor: A.Y. McDonald Mfg. Co.; whether meter swivels and meter nuts are within the scope of the order; requested September 3, 2004.

A-570-827: Cased Pencils from the People's Republic of China

Requestor: Fiskars Brands, Inc.; whether certain compasses are within the scope of the order; requested September 10, 2004.

A-570-504: Petroleum Wax Candles from the People's Republic of China

Requestor: Kathryn Beich, Inc.; whether “Jewel,” “Red Rose,” and “Polka Dot” candles are within the scope of the order; requested September 23, 2004.

A-570-803: Heavy Forged Hand Tools, Finished or Unfinished, With or Without Handles, from the People's Republic of China

Requestor: Olympia Group Inc.; whether cast tampers are within the scope of the order; requested September 24, 2004.

A-570-504: Petroleum Wax Candles from the People's Republic of China

Requestor: Holly Lobby Stores, Inc.; whether “Fall Floating Leaf Candles,” “Pumpkin Floating Candles,” and “Floating Rose Candles” are within the scope of the order; requested September 29, 2004.

A-570-886: Polyethylene Retail Carrier Bags from the People's Republic of China

Requestor: Dimensions Trading, Inc.; whether polyethylene sample bags are within the scope of the order; requested October 13, 2004.

A-570-504: Petroleum Wax Candles from the People's Republic of China

Requestor: Industrial Raw Materials Corp.; whether wickless wax plugs are within the scope of the order; requested October 26, 2004.

A-570-803: Heavy Forged Hand Tools, Finished or Unfinished, With or Without Handles, from the People's Republic of China

Requestor: Olympia Group Inc.; whether pry bars, with a bar length under 18 inches, are within the scope of the order; requested November 4, 2004.

A-570-502: Iron Construction Castings from the People's Republic of China

Requestor: A.Y. McDonald Mfg. Co.; whether certain cast iron articles (meter box frames, covers, extension rings; meter box bases, upper bodies, lids), if imported separately are within the scope of the order; requested November 16, 2004.

A-570-506: Porcelain-On-Steel Cooking Ware from the People's Republic of China

Requestor: Taybek International; whether the Pro Popper professional popcorn popper is within the scope of the order; requested November 19, 2004.

A-570-891: Hand Trucks and Certain Parts Thereof from the People's Republic of China

Requestor: Vertex International, Inc.; whether certain components of its Garden Cart, if imported separately, are within the scope of the order; requested December 29, 2004.

A-570-827: Cased Pencils from the People's Republic of China

Requestor: Rich Frog Industries, Inc.; whether certain decorated wooden gift pencils are within the scope of the order; requested December 30, 2004.

Republic of Korea

C-580-851: Dynamic Random Access Memory Semiconductors from Korea

Requestor: Cisco Systems, Inc.; whether removable memory modules placed on motherboards that are imported for repair or refurbishment are within the scope of the CVD order; requested December 29, 2004.

Russian Federation

A-821-802: Antidumping Suspension Agreement on Uranium

Requestor: USEC, Inc. and its subsidiary, United States Enrichment Corporation; whether enriched uranium located in Kazakhstan at the time of the dissolution of the Soviet Union is within the scope of the order; requested August 6, 1999.

Vietnam

A-552-801: Certain Frozen Fish Filets from the Socialist Republic of Vietnam

Requestor: Piazza Seafood World LLC; whether certain basa and tra fillets from Cambodia which are a product of Vietnam are excluded from the antidumping duty order; requested May 12, 2004.

Multiple Countries

A-475-820: Stainless Steel Wire Rod from Italy, C-475-821: Stainless Steel Wire Rod from Italy, A-588-843: Stainless Steel Wire Rod from Japan, A-469-805: Stainless Steel Wire Rod from Spain, A-469-807: Stainless Steel Wire Rod from Spain, A-583-828: Stainless Steel Wire Rod from Taiwan, A-533-810: Certain Stainless Steel Wire Rod from India, A-588-833: Stainless Steel Wire Rod from India, A-351-825: Stainless Steel Wire Rod from Brazil, A-533- 808: Stainless Steel Wire Rod from India, C-469-004: Stainless Steel Wire Rod from Spain

Requestor: Ishar Bright Steel Ltd.; whether stainless steel bar that is manufactured in the United Arab Emirates from stainless steel wire rod imported from multiple subject countries is within the scope of the orders; requested December 22, 1998.

Anti-circumvention Inquiries Pending as of December 31, 2004: People's Republic of China

A-570-504: Petroleum Wax Candles from the People's Republic of China

Requestor: National Candle Association; whether imports of palm and vegetable-based wax candles from the People's Republic of China can be considered later-developed merchandise which is now circumventing the antidumping duty order; requested October 8, 2004.

>A-570-504: Petroleum Wax Candles from the People's Republic of China

Requestor: National Candle Association; whether imports of palm and vegetable-based wax candles from the People's Republic of China can be considered a minor alteration to the subject merchandise, and thus whether imports of these products are circumventing the antidumping duty order; requested October 12, 2004.

Vietnam

A-552-801: Certain Frozen Fish Fillets From the Socialist Republic of Vietnam

Requestor: Catfish Farmers of America and certain individual U.S. catfish processors; whether imports of frozen fish fillets from Cambodia made from live fish sourced from Vietnam, and falling within the scope of the order, are circumventing the antidumping duty order; requested August 20, 2004.

Interested parties are invited to comment on the completeness of this list of pending scope inquiries. Any comments should be submitted to the Deputy Assistant Secretary for AD/CVD Operations, Import Administration, International Trade Administration, 14th Street and Constitution Avenue NW, Room 1870, Washington, DC 20230.

This notice is published in accordance with 19 CFR 351.225(o) of the Department's regulations.

Dated: May 4, 2005.
Barbara E. Tillman,
Acting Deputy Assistant Secretary for Import Administration.

[FR Doc. E5-2286 Filed 5-9-05; 8:45 am]

BILLING CODE 3510-DS-S